DEPARTMENT OF COMMERCE

National Oceanic and Atmospheric Administration

[I.D. 101306E]

Endangered Species; File No. 1557

AGENCY: National Marine Fisheries Service (NMFS), National Oceanic and Atmospheric Administration (NOAA), Commerce.

ACTION: Notice; receipt of application for modification

SUMMARY: Notice is hereby given that Molly Lutcavage, Department of Zoology, 177 A Spaulding Hall, University of New Hampshire, Durham, NH 03824-2617, has requested a modification to scientific research Permit No. 1557.

DATES: Written, telefaxed, or e-mail comments must be received on or before November 20, 2006.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1557.

FOR FURTHER INFORMATION CONTACT: Patrick Opay or Kate Swails, (301)713-2289.

SUPPLEMENTARY INFORMATION: The subject modification to Permit No. 1557, issued on June 21, 2006 (71 FR 36520) is requested under the authority of the Endangered Species Act of 1973, as amended (16 U.S.C. 1531 et seq.) and the regulations governing the taking, importing, and exporting of endangered and threatened species (50 CFR 222-226).

Permit No. 1557 authorizes the permit holder to investigate leatherback sea turtle regional behavior and movements in near-shore waters off the northeastern United States and to identify their dispersal in relation to oceanographic conditions and fishing activities. The research will also help establish baseline health assessments, genetic identities, sex ratios, and stable isotope composition of leatherback sea turtle tissues and prey. Researchers are authorized to conduct research on up to 12 leatherback sea turtles annually that have been disentangled from fishing gear by the stranding network or that researchers have captured using a breakaway hoop net. Turtles are measured, weighed, photographed and video taped, flipper and passive integrated transponder (PIT) tagged, blood sampled, cloacal swabbed, nasal swabbed, skin sampled, tagged with electronic instruments (e.g., satellite transmitters), and released. The research permit was issued for 5 years. The permit holder currently conducts research in waters off Cape Cod, Buzzard's Bay, Nantucket Sound, Vineyard Sound, and Atlantic waters off Monomoy Island and requests authorization also work in the area between Cape Canaveral, Florida to Savannah, Georgia. The permit holder currently conducts research June to October and requests

authorization to conduct research during February and March as well. No increase in take numbers is requested and all other aspects of the research would remain the same.

Dated: October 16, 2006.
P. Michael Payne,
Chief, Permits, Conservation and Education Division, Office of Protected Resources, National Marine Fisheries Service.

[FR Doc. E6-17583 Filed 10-19-06; 8:45 am]

BILLING CODE 3510-22-S